DEPARTMENT OF THE INTERIOR

Bureau of Land Management

[LLCO923000-L14400000-ET0000-15X]

Application for Withdrawal and Opportunity for Public Meeting, Deep Creek Canyon and Corridor, Colorado

AGENCY: Bureau of Land Management, Interior.

ACTION: Notice.

SUMMARY: The United States Forest Service (USFS) has filed an application (COC 77206) with the Bureau of Land Management (BLM) requesting the Secretary of the Interior to withdraw approximately 4,200 acres of National Forest System lands within the White River National Forest from location and entry under the United States mining laws for a period of 20 years to protect multiple outstanding features, including scenic, recreational, geologic, ecologic, wildlife, and fisheries values, in the Deep Creek canyon and corridor.

The character of the canyon and corridor is natural and essentially primitive, and the lands and free-flowing waters were found to be eligible for Wild and Scenic designation under the Wild and Scenic Rivers Act in the 2002 White River National Forest, Land and Resource Management Plan Revision. The Forest Plan decision recommended withdrawal of the canyon and corridor from location and entry under the United States mining laws.

This notice temporarily segregates the land for up to 2 years from location and entry under the United States mining laws while the application is being processed. This notice also provides the public an opportunity to comment on the application and to request a public meeting. The lands have been and will remain open to mineral and geothermal leasing, and to such forms of disposition as may be allowed by law on National Forest System lands.

DATES: Comments and public meeting requests must be received by January 14, 2016.

ADDRESSES: Comments and meeting requests should be sent to Steve Craddock, Branch of Lands and Realty, BLM Colorado State Office, 2850 Youngfield Street, Lakewood, CO 80215-7093.

FOR FURTHER INFORMATION CONTACT: Steve Craddock, BLM Colorado State Office, 303-239-3707, or Carole Huey, White River National Forest, 970-945-3219, during regular business hours 7:45 a.m. to 4:15 p.m., Monday through Friday, except holidays. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The USFS has filed an application with the BLM pursuant to the Federal Land Policy and Management Act of 1976, 43 U.S.C. 1714, requesting the Secretary of the Interior to withdraw the following described National Forest System lands from location and entry under the United States mining laws (30 U.S.C. Ch. 2), but not from leasing under the mineral or geothermal leasing laws, for a period of 20 years, subject to valid existing rights:

White River National Forest

Sixth Principal Meridian

T. 4 S., R. 87 W.,

sec. 6, beginning at a point on the west line of Section 6 from which the corner common to Sections 6 and 7 bears South a distance of 2665 feet, thence S.65°E. a distance of 1100 feet; thence N.55°E. a distance of 400 feet; thence N.15°E. a distance of 800 feet; thence N.40°W. a distance of 600 feet; thence N.10°W. a distance of 1100 feet; thence N.40°E. a distance of 600 feet; thence S.20°E. a distance of 1300 feet; thence S.30°E. 1300 feet; thence S.30°W. a distance of 800 feet; thence South a distance of 800 feet; thence S.45°E. a distance of 1500 feet; thence N.75°E. a distance of 1300 feet; thence South a distance of 750 feet to the south line of said Section 6; thence S.89°52′ W., along the south line of Section 6, a distance of 4452 feet to the corner on the township line common to Sections 6 and 7; thence North, along the west township line, a distance of 2665 feet to the Point of Beginning;

sec. 7, beginning at the corner common to Sections 6 and 7 on the west township line; thence N.89°52′E., along the north line of Section 7, a distance of 4452 feet, thence South a distance of 1150 feet to a point at 9450 feet elevation, thence S.50°E. a distance of 350 feet; thence S.55°E. a distance of 2000 feet; thence S.10°E. a distance of 200 feet; thence South a distance of 700 feet; thence S.40°E. a distance of 668 feet to a point on the east line of Section 7; thence S.89°50′W., along the south line of Section 7 a distance of 4614 feet; thence N.30°E. a distance of 280 feet; thence N.65°W. a distance of 1100 feet; thence North a distance of 50 feet; thence N.50°E. a distance of 1550 feet; thence N.25°W. a distance of 300 feet; thence N.75°W. a distance of 1300 feet; thence N.45°W. a distance of 300 feet; thence North a distance of 200 feet; thence N.80°E. a distance of 1200 feet; thence N.15°W. a distance of 500 feet; thence N.75°W. a distance of 900 feet; thence N.50°W. a distance of 2000 feet to the west line of Section 7; thence North, along the west line of Section 7 a distance of 286 feet to the Point of Beginning;

sec. 8, beginning at corner common to Sections 8 and 17 only; thence N.0°08′W., along the west line of Section 8, a distance of 830 feet; thence S.40°E. a distance of 30 feet; thence S.70°E. a distance of 700 feet; thence S.30°W. a distance of 600 feet; thence S.20°E. a distance of 60 feet to a point on the south line of Section 8; thence West, along the south line of Section 8, a distance of 420 feet to the Point of Beginning;

sec. 17, W½W½W½SW¼;

sec. 18,. E½W½NE¼, E½NE¼, E½SE¼;

Sec. 19, NE¼NE¼, E½SE¼NE¼, E½NE¼SE¼;

Sec. 20, S½NE¼,SE¼, N½SE¼SW¼, NW¼SE¼SW¼, N½SW¼, S½NW¼, NW¼NW¼;

sec. 21. lot 4, W½SW¼, SW¼NW¼;

sec. 28, beginning at the corner common to Sections 20, 21, 28 and 29, thence S.89°47′E. along the north section line of Section 28, a distance of 1317 feet; thence S.0°02.5′E. a distance of 1616 feet to a point on the north line of Tract 40; thence West, along said north line of Tract 40, a distance of 400 feet to Angle Point 2 of said Tract 40; thence N.40°W. a distance of 180 feet; thence S.70°W. a distance of 900 feet to a point on the west line of Section 28; thence N0°02′W. along the west section line of Section 28 a distance of 1820 feet to the Point of Beginning;

sec. 29, beginning at the section corner common to Sections 20, 21, 28 and 29; thence S.0°02′E. along the east line of Section 29 a distance of 1820 feet; thence S.75°W. a distance of 1100 feet; thence S.85°W. a distance of 100 feet; thence N.80°W. a distance of 400 feet; thence N.30°W. a distance of 400 feet; thence North a distance of 700 feet; thence N.10°W. a distance of 300 feet; thence N.55°W. a distance of 1500 feet to a point on the north line of Section 29; thence N.89°53′E. along the north line of Section 29 a distance of 3940 feet to the Point of Beginning.

T. 3 S., R.88 W. (unsurveyed public lands),

Beginning at the southeast corner of P.L.O. 1611, stated as being the southeast corner of the N½S½SW¼ of Section 20, thence West, on and along the south boundary of P.L.O 1611, a distance of 1160 feet; thence S.20°W., leaving the boundary of P.L.O. 1611, a distance of 340 feet; thence S.5°E. a distance of 350 feet to a point of intersection with the 10460 contour elevation; thence S.30°E. a distance of 2000 feet; thence S.10°E. a distance of 950 feet to a point in White Owl Creek; thence S.60°E. a distance of 1100 feet; thence S.30°E. a distance of 1600 feet; thence S.35°E. a distance of 800 feet; thence S.55°E. a distance of 600 feet; thence S.85°E. a distance of 1800 feet; thence East a distance of 2000 feet; thence S85°E. a distance of 800 feet; thence S.80°E. a distance of 500 feet; thence S.30° E. a distance of 900 feet; thence S.20° E. a distance of 800 feet; thence S.80°E. a distance of 1350 feet; thence S.30°E. a distance of 300 feet; thence S.10°E. a distance of 300 feet; thence S.15°E. a distance of 400 feet; thence S.65°W. a distance of 1300 feet to a point in the center of a small drainage; thence S39°E. a distance of 1350 feet to a point at 10262 feet in elevation; thence S.28°E. a distance of 270 feet to a point on the south township line; thence East, on and along the south township line, a distance of 6100 feet; thence N.50°W. a distance of 3100 feet; thence N.30°W. a distance of 600 feet to a point; thence N.30°W. a distance of 1000 feet; thence N.35°W. a distance of 2300 feet; thence N.30°W. a distance of 700 feet; thence North a distance of 700 feet; thence N.55°E. a distance of 300 feet to a point in a drainage; thence N.75°W. a distance of 500 feet; thence N.30°W. 1500 feet to a point in the drainage of Short Creek; thence S.30°W. a distance of 500 feet; thence S.87°W. a distance of 900 feet; thence N.75°W. a distance of 700 feet; thence N.89°W. a distance of 900 feet to a point on the 10320 contour line; thence N.65°W. a distance of 600 feet; thence West a distance of 600 feet; thence S.65°W. a distance of 600 feet; thence S.80°W. a distance of 700 feet; thence N.80°W. a distance of 900 feet; thence N.50°W. a distance of 1450 feet; thence N.40°W. a distance of 1200 feet to a point on the 10570 contour line; thence N.50°W. a distance of 900 feet; thence N.60°W. a distance of 250 feet; thence N. 45°W. a distance of 800 feet; thence N.30°W. a distance of 400 feet to a point on the 10600 elevation contour line; thence on and along said 10600 feet contour line a distance of 180 feet to a point of intersection with the east boundary of P.L.O 1611; thence South a distance of 390 feet to the Point of Beginning.

T. 4 S., R. 88 W.,

sec. 1, beginning at the corner on the east township line common to Sections 1 and 12, thence North on and along the east township line a distance of 2665 feet; thence N.15°W. a distance of 900 feet; thence N.65°W. a distance of 700 feet; thence S.75°W. a distance of 1600 feet; thence S.65°W. a distance of 1200 feet; thence N.65°W. a distance of 1900 feet to a point on the west line of Section 1; thence South, on and along the west line of Section 1, a distance of 3380 feet; thence S.15°E a distance of 145 feet to the south line of Section 1; thence S.89°57′E, on and along the south line of Section 1, a distance of 660 feet; thence N.70°W. a distance of 200 feet; thence N. 80°E. a distance of 600 feet; thence N.88°E. a distance of 900 feet; thence N.55°E. a distance of 700 feet; thence S.85°E. 900 feet: Thence S. 65°E. a distance of 600 feet; thence S.50°E. a distance of 660 feet to a point on the south line of Section 1; thence S.89°57′E., on and along the south line of Section 1, a distance of 360 feet to the Point of Beginning;

sec. 2, beginning at the corner common to Sections 2 and 3 on the North township line, thence S.0°09′E., on and along the west line of Section 2, a distance of 2815 feet; thence S.33°E. a distance of 2400 feet; thence S.50°E. a distance of 300 feet; thence S.83°E. a distance of 750 feet; thence N.70°E. a distance of 900 feet; thence East a distance of 400 feet; thence S.55°E. a distance of 900 feet to a point on the east line of Section 2; thence North, on and along the east line of Section 2, a distance of 3380 feet; thence N.40°W., a distance of 900 feet; thence N.60°W a distance of 1900 feet; thence N.40°W. a distance of 500 feet to a point on the north section line of Section 2; thence West, on and along the north line of Section 2, a distance of 2620 feet to the Point of Beginning;

sec. 3, beginning at the corner common to Sections 2 and 3 on the north township line, thence West, along the north line of the township, a distance of 3480 feet; thence S.28°E. a distance of 2230 feet to a point in the Johnson Pasture Trail, Forest Service Trail Number 1852; thence N.85°E. a distance of 800 feet; thence East a distance of 400 feet; thence S.45°E. a distance of 1250 feet to a point on the east line of Section 3; thence N.0°09′W., on and along the east line of Section 3, a distance of 2815 feet to the Point of Beginning;

sec. 12, beginning at a point on the north section line of Section 12 from which the corner common to Sections 1, 2, 11, and 12 bears N.89°57′W. a distance of 30 feet, thence S.15°E. a distance of 255 feet; thence N.70°E. a distance of 620 feet to a point on the North line of Section 12; thence N.89°57′W., on and along the north line of Section 12, a distance of 650 feet to the Point of Beginning; and

Beginning at the corner common to Sections 1 and 12 on the east township line, thence N.89°57′W., on and along the north section line of Section 12, a distance of 360 feet; thence S.50°E. a distance of 465 feet to a point on the west line of Section 12; thence North, on and along the west line of Section 12, a distance of 286 feet to the Point of Beginning.

The areas described aggregate approximately 4,200 acres in Garfield County.

The purpose of the withdrawal is to protect multiple outstanding features, including scenic, recreational, geologic, ecologic, wildlife, and fisheries values, in the Deep Creek canyon and corridor.

The use of a right-of-way, interagency or cooperative management agreement would not adequately constrain non-discretionary uses that could irrevocably destroy the area's scenic and recreational values.

No alternative sites are feasible as the described lands contain the natural resource and recreation values in need of protection.

No water rights will be needed to fulfill the purpose of the proposed withdrawal.

For a period until January 14, 2016, all persons who desire to submit comments, suggestions, or objections in connection with the withdrawal application may present their views in writing to the BLM Colorado State Office at the address listed above. Comments, including names and street addresses of respondents, will be available for public review at the BLM Colorado State Office at the above address during regular business hours 7:45 a.m. to 4:15 p.m. Monday through Friday, except Federal holidays.

Notice is also hereby given that the opportunity for a public meeting is afforded in connection with the withdrawal application. All interested parties who desire a public meeting for the purpose of being heard on the proposed withdrawal application must submit a written request to the BLM Colorado State Office at the address listed above by January 14, 2016.

If the authorized officer decides that a public meeting will be held, a notice of the time and place will be published in the Federal Register and in a newspaper of general circulation in the respective areas of the proposed withdrawal at least 30 days before the scheduled date of the meeting.

Before including your address, phone number, email address, or other personal identifying information in your comment, you should be aware that your entire comment—including your personal identifying information—may be made publicly available at any time. While you can ask us in your comment to withhold your personal identifying information from public review, we cannot guarantee that we will be able to do so.

Records related to the application may be examined at the White River National Forest, Supervisor's Office at 900 Grand Avenue, Glenwood Springs, Colorado 81601.

For a period until October 16, 2017, subject to valid existing rights, the lands described in this notice will be segregated from location and entry under the United States mining laws unless the application is denied or cancelled or the withdrawal is approved prior to that date. The lands will remain open to other uses within the statutory authority pertinent to National Forest System lands and subject to discretionary approval.

The application will be processed in accordance with the regulations set forth in 43 CFR part 2300.

(Authority: 43 CFR 2310.3-1(b))

Ruth Welch,
BLM Colorado State Director.

[FR Doc. 2015-26364 Filed 10-15-15; 8:45 am]

BILLING CODE 4311-15-P